DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by August 29, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Family Day Care Home (FDCH) Participation Study.

OMB Control Number: 0584-NEW.

Summary of Collection: The Child and Adult Care Food Program (CACFP), administered by the Food and Nutrition Service (FNS), plays a critical role in supporting the health and wellness of children by reimbursing providers for nutritious meals served to eligible children in their care. The FDCH Participation Study aims to understand FDCH provider experiences with the CACFP by asking a nationally representative sample of both current and former CACFP-participating FDCH providers about their experiences with the program.

Need and Use of the Information: The primary data collection activity will include the FDCH Provider Experience Survey, designed to gather information from FDCH providers to address the three main objectives for the study:

1. Identify and describe the reasons why FDCH providers discontinue their participation in CACFP;

2. Determine and describe CACFP program statutory and regulatory requirements, operational and financial considerations, and Federal, State, and local specifics frequently cited as burdensome by stakeholders. Classify challenges as Federal, State, and local and describe in detail; and

3. Gather and summarize recommendations from FDCH providers on how to reduce barriers or challenges to CACFP participation.

Description of Respondents: State, Local, or Tribal government, Businesses or other For- Profit and Not-for-Profit.

Number of Respondents: 5,921.

Frequency of Responses: Reporting: Once.

Total Burden Hours: 4,623.

Ruth Brown,
Departmental Information Collection Clearance Officer.

[FR Doc. 2022-16241 Filed 7-28-22; 8:45 am]

BILLING CODE 3410-30-P